NATIONAL SCIENCE FOUNDATION

Special Emphasis Panel in Research Evaluation and Communication; Notice of Meeting

In accordance with Federal Advisory Committee Act (Pub. L. 92-463, as amended), the National Science Foundation announces the following meetings of the Special Emphasis Panel in Research Evaluation and Communication (1210):

Date/Time: January 25-26, 2001; 8:00 a.m.-5:00 p.m.

Date/Time: January 29-30, 2001; 8:00 a.m.-5:00 p.m.

Place: National Science Foundation, 4201 Wilson Boulevard, Arlington, VA.

Type of Meeting: Closed.

Contact Person: Elizabeth VanderPutten, National Science Foundation, Room 855, 4201 Wilson Boulevard, Arlington, VA 22230. (703) 292-8650.

Purpose of Meeting: To provide advice and recommendations concerning proposals submitted to NSF for financial support.

Agenda: Review and evaluate proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: December 13, 2000.
Karen J. York,
Committee Management Officer.

[FR Doc. 00-32462 Filed 12-20-00; 8:45 am]

BILLING CODE 7555-01-M